ENVIRONMENTAL PROTECTION AGENCY

[FRL-7946-1]

Agency Information Collection Activities OMB Responses

AGENCY: Environmental Protection Agency (EPA).

ACTION: Notice.

SUMMARY: This document announces the Office of Management and Budget's (OMB) responses to Agency clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR chapter 15.

FOR FURTHER INFORMATION CONTACT: Susan Auby (202) 566-1672, or e-mail at auby.susan@epa.gov and please refer to the appropriate EPA Information Collection Request (ICR) Number.

SUPPLEMENTARY INFORMATION:

OMB Responses to Agency Clearance Requests

OMB Approvals

EPA ICR No. 1816.03; EPA Strategic Plan Information on Source Water Assessment and Protection (Renewal); was approved 06/30/2005; OMB Number 2040-0197; expires 06/30/2008.

EPA ICR No. 0107.08; Source Compliance and State Action Reporting (Renewal); in 40 CFR 51.212, 40 CFR 51.323 (c) (1), 40 CFR 51.323 (c)(2), 40 CFR 51.324 (a) and (b), 40 CFR 51.327, 40 CFR 70.4 (j)(1), 40 CFR 70.10 (c)(1)(iii), 40 CFR part 52, 40 CFR part 60, 40 CFR part 63; was approved 06/30/2005; OMB Number 2060-0096; expires 06/30/2008.

EPA ICR No. 1637.06; General Conformity of Federal Actions to State Implementation Plans (Renewal); in 40 CFR part 51, subpart W; and 40 CFR part 93, subpart B; was approved 07/01/2005; OMB Number 2060-0279; expires 07/31/2008.

EPA ICR No. 1896.05; Disinfectants/Disinfection Byproducts, Chemical and Radionuclides Rule (Renewal); in 40 CFR 141.23(A)(a)-(b); 40 CFR 141.23(d)-141.24; 40 CFR 141.26; 40 CFR 141.31(a)-(c) and (e); 40 CFR 141.32(f); 40 CFR 141.33(a)-(d); 40 CFR 141.35; 40 CFR 141.40; 40 CFR 141.42-141.43; 40 CFR 141.80-141.91; 40 CFR 141.111; 40 CFR 141.130-141.132; 40 CFR 141.134-141.135; 40 CFR 142.14(d)(2-7); 40 CFR 142.14(d)(12)(i)-(iv); 40 CFR 142.14(d)(13)-(16); 40 CFR 142.16(e), (h), (k)(1), (l)(1) and (2); was approved 06/23/2005; OMB Number 2040-0204; expires 06/30/2008.

EPA ICR No. 2018.02; Pollution Prevention Compliance Alternative; Transportation Equipment Cleaning (TEC) Point Source Category (Renewal); in 40 CFR part 442; was approved 06/23/2005; OMB Number 2040-0235; expires 06/30/2008.

EPA ICR No. 1973.03; Cooling Water Intake Structures—New Facility (Renewal); in 40 CFR 125.80 to 125.89, 40 CFR 122.21(r); was approved 06/23/2005; OMB Number 2040-0241; expires 06/30/2008.

EPA ICR No. 1812.03; Annual Public Water Systems Compliance Report (Renewal); was approved 06/23/2005; OMB Number 2020-0020; expires 06/30/2008.

EPA ICR No. 1977.02; National Wastewater Operator Training and Technical Assistance Program—CWA 104 (g)(1) (Renewal); was approved 06/23/2005; OMB Number 2040-0238; expires 06/30/2008.

EPA ICR No. 1391.07; Clean Water Act State Revolving Fund Program (Renewal); was approved 06/23/2005; OMB Number 2040-0118; expires 06/30/2008.

EPA ICR No. 1791.04; Establishing No-Discharge Zones (NDZs) Under Clean Water Act Section 312 (Renewal); in 40 CFR part 63, subparts AA and BB; was approved 06/23/2005; OMB Number 2040-0187; expires 06/30/2008.

EPA ICR No. 2133.01; Survey Questionnaire to Determine the Effectiveness, Costs, and Impacts of Sewage and Graywater Treatment Devices for Large Cruise Ships Operating in Alaska; was approved 06/23/2005; OMB Number 2040-0260; expires 06/30/2008.

EPA ICR No. 0922.07; Data Call-ins for the Special Review and Registration Review Programs; in 40 CFR part 158; was approved 06/20/2005; OMB Number 2070-0057; expires 06/30/2008.

EPA ICR No. 1911.02; Data Acquisition for Anticipated Residue and Percent of Crop Treated; was approved 06/20/2005; OMB Number 2070-0164; expires 06/30/2008.

EPA ICR No. 1504.05; Data Generation for Pesticide Reregistration; in 40 CFR part 158; was approved 06/20/2005; OMB Number 2070-0107; expires 06/30/2008.

Short Term Extensions

EPA ICR No. 1955.02; Operator Certification Guidelines and Operator Certification Expense Reimbursement Grants Program; OMB Number 2040-0236; on 06/23/2005 OMB extended the expiration date through 09/30/2005.

EPA ICR No. 2052.01; Information Collection Request for Long Term 1 Enhanced Surface Water Treatment Rule (Final Rule); OMB Number 2040-0229; on 07/08/2005 OMB extended the expiration date through 10/31/2005.

Withdrawn

EPA ICR No. 1934.02; National Primary Drinking Water Regulations: Ground Water Rule (Final Rule); on 06/23/2005 the ICR was withdrawn by EPA.

Comment Filed and Continued

EPA ICR No. 1591.17; Regulation of Fuels and Fuel Additives: Modifications of Anti-Dumping Baselines for Gasoline Produced of Imported for Use in Hawaii, Alaska and U.S. Territories (Proposed Rule); OMB Number 2060-0277; on 06/20/2005 OMB filed comment.

Dated: July 19, 2005.
Oscar Morales,
Director, Collection Strategies Division.

[FR Doc. 05-15056 Filed 7-28-05; 8:45 am]

BILLING CODE 6560-50-P